DEPARTMENT OF HEALTH AND HUMAN SERVICES

Administration for Children and Families

Proposed Information Collection Activity; Comment Request

Proposed Projects

Title: Performance Measures for Healthy Marriage and Promoting Responsible Fatherhood Grant Programs.

OMB No.: New Collection.

Description: The Office of Family Assistance (OFA), Administration for Children and Families (ACE), U.S. Department of Health and Human Services (HHS), intends to request approval from the Office of Management and Budget (OMB) for the collection of performance measures from grantees for the Healthy Marriage and Promoting Responsible Fatherhood discretionary grant programs. The performance measure data obtained from the grantees will be used by OFA to report on the overall performance of this grant program and to inform the Program Assessment Rating Tool (PART) process if the program is selected for PART review.

Data will be collected from all 123 Healthy Marriage and 99 Responsible Fatherhood grantees in the CPA program. Grantees will report on program outputs and outcomes in such areas as participants improvement in knowledge, skills, attitudes, and behaviors related to healthy marriage and responsible fatherhood. Grantees will be asked to input data for selected outputs and outcomes for activities funded under the grant. Grantees will extract data from program records and will report the data twice yearly through an on-line data collection tool. Training and assistance will be provided to grantees to support this data collection process.

Respondents: Office of Family Assistance Funded Healthy Marriage and Promoting Responsible Fatherhood Grantees.

Annual Burden Estimates
Instrument | Number of respondents | Number of responses per respondent | Average burden hours per response | Total burden hours
Performance measure reporting form | 222 | 2 | 0.60 | 266.40

Estimated Total Annual Burden Hours: 266.40.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACE Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: August 18, 2008.
Robert Sargis,
Reports Clearance Officer.

[FR Doc. E8-19559 Filed 8-22-08; 8:45 am]

BILLING CODE 4184-01-M